DEPARTMENT OF HOUSING AND URBAN DEVELOPMENT

[Docket No. FR-4644-N-50]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utili8ze a suitable property, providers should submit their written expressions of interest as soon a possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Julie Jones-Conte, Headquarters, Department of the Army, Office of the Assistant Chief of Staff for Installation Management, Program Integration Office, Attn: DAIM-MD, Room 1E677, 600 Army Pentagon, Washington, DC 20310-0600; (703) 692-9223; GSA: Mr. Brian K. Polly, Assistant Commissioner, General Services Administration, Office of Property Disposal, 18th and F Streets, NW., Washington, DC 20405; (202) 501-0052; Interior: Ms. Linda Tribby, Acquisition & Property Management, Department of the Interior, 1849 C Street, NW., Washington, DC 20240; (202) 219-0728; (These are not toll-free numbers).

Dated: December 6, 2001.
John D. Garrity,
Director, Office of Special Needs Assistance Programs.

TITLE V, FEDERAL SURPLUS PROPERTY PROGRAM FEDERAL REGISTER REPORT FOR 12/14/01

Suitable/Available Properties

Buildings (by State)

Arizona

15 Bldgs.

Fort Huachuca

Sierra Vista Co: Cochise AZ 85635-

Location: 44116, 44305, 44306, 44409, 44410, 44411, 44415, 44416, 44501, 44502, 44503, 44504, 44505, 44506, 44507.

Landholding Agency: Army.

Property Number: 21200140074.

Status: Excess.

Comment: Family housing, duplex, triplex, fourplex, sixplex, (2-3 bedrooms), presence of asbestos/lead paint, off-site use only.

Georgia

Bldg. 02301

Fort Gordon

Ft. Gordon Co: Richmond GA 30905-

Landholding Agency: Army.

Property Number: 21200140075.

Status: Unutilized.

Comment: 8484 sq. ft., needs major rehab, potential asbestos/lead paint, most recent use—storage, off-site use only.

Idaho

Ditchrider House

25822 Middleton Rd.

Middleton Co: Canyon ID 83644-

Landholding Agency: Interior.

Property Number: 61200140006.

Status: Unutilized.

Comment: 832 sq. ft., residence, needs rehab, off-site use only.

Maryland

Bldgs. 187, 239, 999

Ft. George G. Meade

Ft. Meade Co: Anne Arundel MD 20755-

Landholding Agency: Army.

Property Number: 21200140077.

Status: Unutilized.

Comment: 2284 sq. ft., presence of asbestos/lead paint, most recent use—admin., off-site use only.

Bldg. 219

Ft. George G. Meade

Ft. Meade Co: Anne Arundel MD 20755-

Landholding Agency: Army.

Property Number: 21200140078.

Status: Unutilized.

Comment: 8142 sq. ft., presence of asbestos/lead paint, most recent use—admin., off-site use only.

Bldg. 229

Ft. George G. Meade

Ft. Meade Co: Anne Arundel MD 20755-

Landholding Agency: Army.

Property Number: 21200140079.

Status: Unutilized.

Comment: 2250 sq. ft., presence of asbestos/lead paint, most recent use—admin., off-site use only.

Bldg. 287

Ft. George G. Meade

Ft. Meade Co: Anne Arundel MD 20755-

Landholding Agency: Army.

Property Number: 21200140080.

Status: Unutilized.

Comment: 2892 sq. ft., presence of asbestos/lead paint, most recent use—storehouse, off-site use only.

Bldg. 294

Ft. George G. Meade

Ft. Meade Co: Anne Arundel MD 20755-

Landholding Agency: Army.

Property Number: 21200140081.

Status: Unutilized.

Comment: 3148 sq. ft., presence of asbestos/lead paint, most recent use—entomology facility, off-site use only.

Bldg. 942

Ft. George G. Meade

Ft. Meade Co: Anne Arundel MD 20755-

Landholding Agency: Army.

Property Number: 21200140082.

Status: Unutilized.

Comment: 3557 sq. ft., presence of asbestos/lead paint, most recent use—chapel, off-site use only.

Bldg. 949

Ft. George G. Meade

Ft. Meade Co: Anne Arundel MD 20755-

Landholding Agency: Army.

Property Number: 21200140083.

Status: Unutilized.

Comment: 2441 sq. ft., presence of asbestos/lead paint, most recent use—storehouse, off-site use only.

Bldg. 979

Ft. George G. Meade

Ft. Meade Co: Anne Arundel MD 20755-

Landholding Agency: Army.

Property Number: 21200140084.

Status: Unutilized.

Comment: 2331 sq. ft., presence of asbestos/lead paint, most recent use—admin., off-site use only.

Bldg. 1007

Ft. George G. Meade

Ft. Meade Co: Anne Arundel MD 20755-

Landholding Agency: Army.

Property Number: 21200140085.

Status: Unutilized.

Comment: 3108 sq. ft., presence of asbestos/lead paint, most recent use—storage, off-site use only.

Bldg. 2122

Ft. George G. Meade

Ft. Meade Co: Anne Arundel MD 20755-

Landholding Agency: Army.

Property Number: 21200140086.

Status: Unutilized.

Comment: 9092 sq. ft., presence of asbestos/lead paint, most recent use—admin., off-site use only.

Bldg. 3000

Ft. George G. Meade

Ft. Meade Co: Anne Arundel MD 20755-

Landholding Agency: Army.

Property Number: 21200140087.

Status: Unutilized.

Comment: 10,663 sq. ft., presence of asbestos/lead paint, most recent use—storehouse, off-site use only.

Bldg. 4283

Ft. George G. Meade

Ft. Meade Co: Anne Arundel MD 20755-

Landholding Agency: Army.

Property Number: 21200140088.

Status: Unutilized.

Comment: 2609 sq. ft., presence of asbestos/lead paint, most recent use—admin., off-site use only.

Ohio

Quarters 120

Defense Supply Center

Columbus Co: Franklin OH 43216-5000,

Landholding Agency: Army.

Property Number: 21200140089.

Status: Unutilized.

Comment: 5670 sq. ft., needs repair, presence of lead paint, most recent use—residence, off-site use only.

Texas

Federal Courthouse

512 Starr Street

Corpus Christi Co: Nueces TX 78401-

Landholding Agency: GSA.

Property Number: 54200140011.

Status: Excess.

Comment: 6000 sq. ft., needs maintenance, eligible for Nat'l Register of Historic Places.

GSA Number: 7-G-TX-1049.

Land (by State)

Arizona

WC-1-2c & WC-1-2f

Range 1 East

Peoria Co: Maricopa AZ 85382-

Landholding Agency: Interior.

Property Number: 61200140007.

Status: Excess.

Comment: 10 acres, portion of parcels, remote location, no utilities.

Suitable/Unavailable Properties

Buildings (by State)

Georgia

Bldg. 2410

Fort Gordon

Ft. Gordon Co: Richmond GA 30905-

Landholding Agency: Army.

Property Number: 21200140076.

Status: Unutilized.

Comment: 8480 sq. ft., needs rehab, potential asbestos/lead paint, most recent use—storage, off-site use only.

Unsuitable Properties

Buildings (by State)

California

Solstice Canyon House

Santa Monica Mountains

Malibu Co: Los Angeles CA 90265-

Landholding Agency: Interior.

Property Number: 61200140003.

Status: Unutilized.

Reason: Extensive deterioration.

Screen House

Rt 140/RT 120

Yosemite Co: Mariposa CA 95389-

Landholding Agency: Interior.

Property Number: 61200140004.

Status: Unutilized.

Reason: Extensive deterioration.

Florida

U.S. Customs House

1700 Spangler Boulevard

Hollywood Co: Broward FL 33316-

Landholding Agency: GSA.

Property Number: 54200140012.

Status: Surplus.

Reason: Within 2000 ft. of flammable or explosive material Secured Area.

GSA Number: 4-G-FL-1173.

Storage Bldg.

75th Street

Bradenton Co: Manatee FL 34209-

Landholding Agency: Interior.

Property Number: 61200140005.

Status: Unutilized.

Reason: Extensive deterioration.

[FR Doc. 01-30644 Filed 12-13-01; 8:45 am]

BILLING CODE 4210-29-M